DEPARTMENT OF HOUSING AND URBAN DVELOPMENT

Office of Federal Housing Enterprise Oversight

12 CFR Part 1750

RIN 2550-AA26

Risk-Based Capital

AGENCY: Office of Federal Housing Enterprise Oversight, HUD.

ACTION: Reopening and extension of the public comment period.

SUMMARY: On September 12, 2002, the Office of Federal Housing Enterprise Oversight (OFHEO) published a notice of proposed rulemaking (NPRM) entitled “Risk-Based Capital” in the Federal Register (67 FR 57760). That document related to the correcting and technical amendments to the risk-based capital rule for the Federal Home Loan Mortgage Corporation (Freddie Mac) and the Federal National Mortgage Association (Fannie Mae).

In response to the NPRM, OFHEO received requests to provide additional time to review the proposed amendments to revise the treatment of Financial Accounting Standard 133 in the risk-based capital rule (identified in the preamble as numbers 11 and 12 in the list of 12 proposed amendments). At the request of some commenters, OFHEO is providing an additional period for public comment on this revision until October 29, 2002. In addition, OFHEO invites comment during this period on the most appropriate effective date for the implementation of these proposed amendments. OFHEO may move to final action on the remaining technical elements of the proposal as to which no substantive objections were received.

DATES: The additional comment period will close on October 29, 2002.

ADDRESSES: Send written comments to Alfred M. Pollard, General Counsel, Office of General Counsel, Office of Federal Housing Enterprise Oversight, 1700 G Street, NW., Fourth Floor, Washington, DC 20552. Written comments may also be sent by electronic mail to RegComments@OFHEO.gov. OFHEO requests that written comments submitted in hard copy also be accompanied by the electronic version in MS Word or in portable document format (PDF) on 3.5″disk.

FOR FURTHER INFORMATION CONTACT: Robert Pomeranz, Senior Accounting Specialist, Office of Risk and Model Development, telephone (202) 414 3796; or Jamie Schwing, Associate General Counsel, telephone (202) 414-3787 (not toll-free numbers), Office of Federal Housing Enterprise Oversight, 1700 G Street, NW., Fourth Floor, Washington, DC 20552. The telephone number for the Telecommunications Device for the Deaf is (800) 877-8339.

Dated: September 25, 2002.
Armando Falcon, Jr.,
Director, Office of Federal Housing Enterprise Oversight.

[FR Doc. 02-24815 Filed 9-27-02; 8:45 am]

BILLING CODE 4220-11-P